DEPARTMENT OF LABOR

Occupational Safety and Health Administration

Training Grant Program “ Internet-Based OSHA Expert Compliance Assistance System

AGENCY: Occupational Safety and Health Administration (OSHA), Labor.

ACTION: Notice of availability of funds and request for grant applications.

SUMMARY: The Occupational Safety and Health Administration (OSHA) awards funds to nonprofit organizations to conduct safety and health training and education. This notice announces grant availability for training employers in an internet-based OSHA expert compliance assistance system. The notice describes the scope of the grant program and provides information about how to get detailed grant application instructions. Applications should not be submitted without the applicant first obtaining the detailed grant application instructions mentioned later in the notice.

Section 21(c) of the Occupational Safety and Health Act of 1970 (29 U.S.C. 670) authorizes this program.

DATES: Applications must be received by June 9, 2000.

ADDRESSES: Submit grant applications to the Office of Science and Technology Assessment, Directorate of Technical Support, OSHA, 200 Constitution Avenue, NW, Washington, DC 20210.

FOR FURTHER INFORMATION CONTACT: Mr. Roy F. Gurnham, Director, Office of Science and Technology Assessment, Directorate of Technical Support, OSHA, (202) 693-2024, e-mail roy.gurnham@osha.gov.

SUPPLEMENTARY INFORMATION:

What Is the Purpose of the Grant Program?

OSHA's strategic plan contains goals to improve workplace safety and health for all workers, change the workplace culture to increase employer and worker awareness of, commitment to, and involvement in safety and health, and to secure public confidence through excellence in the development and delivery of OSHA's programs and services. OSHA's intent is to reduce the number of worker injuries, illnesses and fatalities by focusing nationwide attention and Agency resources on the most prevalent types of workplace injuries and illnesses, the most hazardous industries and the most hazardous workplaces. This grant is one of the mechanisms OSHA is using to achieve its strategic goals.

This grant provides funds to train employers to recognize, avoid, and prevent safety and health hazards in their workplaces.

The program emphasizes three areas.

• Educating employers in small businesses. A small business has 250 or fewer workers.

• Training employers in new OSHA standards.

• Training employers in high risk activities or hazards identified by OSHA.

Grantees are expected to develop Internet expert software, training and/or educational programs that address compliance assistance and Material Safety Data Sheet assistance as described below, and conduct the training. Grantees will also be expected to follow-up with people who have been trained by their program to find out what, if any, changes were made to reduce hazards in their workplaces as a result of the training.

What Are the Training Topics for This Grant?

The purpose of this notice is to announce that funds are available for a grant to train employers in an Internet-based OSHA expert compliance assistance system. Each grant application must address the following:

• Use of an Internet-based diagnostic (“expert”) software system that, using a down loadable, on-line interview process, will give the user a compliance profile for each facility covered by the interview as well as a comprehensive “to-do” list to help the user manage compliance. The information must be customized for each facility and must be kept current over the Internet;

• The system must be capable of automatically downloading, indexing, viewing, and printing Material Safety Data Sheets (MSDS) files. Once tagged, MSDSs would be monitored and user files would be automatically updated via the Internet;

• Use of training materials for the purpose of training employers how to use the system.

Who Is Eligible To Apply for a Grant?

Any non-profit educational foundation is eligible to apply. Applicants will be required to submit evidence of nonprofit status, preferably from the IRS.

What Can Grant Funds Be Spent On?

Grant funds can be spent on the following:

• Conducting training.

• Conducting other activities that reach and inform workers and employers about occupational safety and health hazards and hazard abatement.

• Developing educational materials for use in the training.

Are There Restrictions on How Grant Funds Can Be Spent?

OSHA will not provide funding for the following activities.

1. Any activity that is inconsistent with the goals and objectives of the Occupational Safety and Health Act of 1970.

2. Training involving workplaces that are not covered by the Occupational Safety and Health Act. Examples include state and local government workers in non-State Plan States and workers covered by section 4(b)(1) of the Act.

3. Production, publication, reproduction or use of training and educational materials, including newsletters and instructional programs, that have not been reviewed by OSHA for technical accuracy.

4. Activities that address issues other than recognition, avoidance, and prevention of unsafe or unhealthy working conditions. Examples include workers' compensation, first aid, and publication of materials prejudicial to labor or management.

5. Activities that provide assistance to workers in arbitration cases or other actions against employers, or that provide assistance to employers and/or workers in the prosecution of claims against Federal, State or local governments.

6. Activities that directly duplicate services offered by OSHA, a State under an OSHA-approved State Plan, or consultation programs provided by State designated agencies under section 21(d) of the Occupational Safety and Health Act.

7. Activities intended to generate membership in the grantee's organization. This includes activities to acquaint nonmembers with the benefits of membership, inclusion of membership appeals in materials produced with grant funds, and membership drives.

What Other Grant Requirements Are There?

1. OSHA review of expert software systems and educational materials. OSHA will review all expert software systems and educational materials produced by the grantee for technical accuracy. OSHA will also review training curriculums and training materials for accuracy before they are used.

When grant recipients produce training materials, they will provide copies of completed materials to OSHA before the end of the grant period. All materials produced by grantees may be placed on the Internet by OSHA.

2. OMB and regulatory requirements. Grantees will be required to comply with the following documents.

• 29 CFR part 95, which covers grant requirements for nonprofit organizations, including universities and hospitals. These are the Department of Labor regulations.

• OMB Circular A-122, which describes allowable and unallowable costs for nonprofit organizations.

• OMB Circular A-133, which provides information about audit requirements.

3. Certifications. All applicants will be required to certify to a drug-free workplace in accordance with 29 CFR part 98, to comply with the New Restrictions on Lobbying published at 29 CFR part 93, to make a certification regarding the debarment rules at 29 CFR part 98, and to complete a special lobbying certification.

How Are Applications Reviewed and Rated?

OSHA staff will review grant applications and present the results to the Assistant Secretary who will make the selection of the organization to be awarded the grant.

OSHA will give preference to applications which:

• Address multiple safety and health subjects.

• Train managers and/or supervisors.

• Serve multiple employers. OSHA is interested in reaching more than one employer with each grant awarded.

The following factors will be considered in evaluating grant applications.

1. Program Design

a. The proposed training and education program addresses the topics set out above.

b. The proposal plans to train employers and clearly estimates the numbers to be trained.

c. The planned activities are appropriate for the employers to be trained.

d. There is a plan for OSHA to review the software and educational materials.

e. There is a plan to evaluate the program's effectiveness and this includes plans to follow-up with trainees to see if the training resulted in workplace change.

f. The planned work can be accomplished in one year.

2. Program Experience

a. The organization applying for the grant demonstrates experience with occupational safety and health.

b. The organization applying for the grant demonstrates experience training adults in work-related subjects.

c. The staff to be assigned to the project have experience in (1) occupational safety and health, (2) the specific topic chosen, and (3) training adults.

d. The organization applying for the grant demonstrates experience in recruiting and training the population it proposes to serve under the grant.

3. Administrative Capability

a. The applicant organization demonstrates the capacity to maintain fiscal management.

b. The application is complete, including forms, budget detail, narrative and work plan, and required attachments.

4. Budget

a. The budgeted costs are reasonable.

b. The budget complies with Federal cost principles (which can be found in applicable OMB Circulars) and with OSHA budget requirements contained in the grant application instructions.

In addition to the factors listed above, the Assistant Secretary will take other items into consideration, such as the geographical distribution of the grant programs and the coverage of populations at risk.

How Much Money Is Available for Grants?

There is approximately $100,000 available for this program.

How Long Are Grants Awarded for?

Grants are awarded for a one year period

How Do I Get a Grant Application Package?

Grant application instructions may be obtained from the OSHA Directorate of Technical Support, 200 Constitution Avenue, NW, Washington, DC 20210.

When and Where Are Applications To Be Sent?

The application deadline is 4:30 p.m. Eastern Time, Friday, June 9, 2000.

Applications are to be mailed to the Office of Science and Technology Assessment, Directorate of Technical Support, OSHA, 200 Constitution Avenue, NW, Washington, DC 20210. Applications may be sent by fax to (202) 693-1644.

How Will I Be Told if My Application Was Selected?

Organizations selected as grant recipients will be notified by a representative of the Assistant Secretary. An applicant whose proposal is not selected will be notified in writing.

Notice that an organization has been selected as a grant recipient does not constitute approval of the grant application as submitted. Before the actual grant award, OSHA will enter into negotiations concerning such items as program components, funding levels, and administrative systems. If the negotiations do not result in an acceptable submittal, the Assistant Secretary reserves the right to terminate the negotiation and decline to fund the proposal.

Signed at Washington, DC, this 6th day of April 2000.
Charles N. Jeffress,
Assistant Secretary of Labor.

[FR Doc. 00-9754 Filed 4-18-00; 8:45 am]

BILLING CODE 4510-26-P